MEDICARE PAYMENT ADVISORY COMMISSION

Commission Meeting

AGENCY: Medicare Payment Advisory Commission.

ACTION: Notice of meeting.

SUMMARY: The Commission will hold its next public meeting on Thursday, November 16, 2000, and Friday, November 17, 2000, at the Ronald Reagan Building, International Trade Center, 1300 Pennsylvania Avenue, NW, Washington, DC. The meeting is tentatively scheduled to begin at 10:00 a.m on November 16, and at 9:00 a.m. on November 17.

Topics for discussion include: draft report to Congress on risk adjustment; draft report to Congress on post-surgical recovery care centers; Medicare issues in rural areas including access to care; analysis of costs for hospital services in rural areas; coinsurance for hospital outpatient department services; updating Medicare payments for physician services; methods for determining payment adequacy and updates for hospital inpatient services; technology costs and hospital inpatient and outpatient services; and payments to skilled nursing facilities.

Agendas will be mailed on November 7, 2000. The final agenda will be available on the Commission's website (www.MedPAC.gov)

ADDRESSES: MedPAC's address is: 1730 K Street, NW, Suite 800, Washington, DC 20006. The telephone number is (202) 653-7220.

FOR FURTHER INFORMATION CONTACT: Diane Ellison, Office Manager, (202) 653-7220.

Murray N. Ross,
Executive Director.

[FR Doc. 00-28430 Filed 11-3-00; 8:45 am]

BILLING CODE 6820-BW-M